DEPARTMENT OF ENERGY

Federal Energy Regulatory Commission

[Project No. 13378-000]

Sonoma County Water Agency; Notice of Preliminary Permit Application Accepted for Filing and Soliciting Comments, Motions To Intervene, and Competing Applications

April 3, 2009.

On February 23, 2009, Sonoma County Water Agency filed an application for a preliminary permit, pursuant to section 4(f) of the Federal Power Act, proposing to study the feasibility of the Sonoma Coast Hydrokinetic Energy Project Fort Ross (North) to be located on the Pacific Ocean off the coast of Sonoma County, California. The project uses no dam or impoundment. The sole purpose of a preliminary permit, if issued, is to grant the permit holder priority to file a license application during the permit term. A preliminary permit does not authorize the permit holder to perform any land disturbing activities or otherwise enter upon lands or waters owned by others without the owners' express permission.

The proposed project would consist of: (1) Approximately 5 to 10 oscillating water column devices and/or buoy-type wave energy conversion devices with an estimated total power output of 2 to 5 megawatts (MW); (2) a potential expansion of the proposed project or additional projects up to 40 to 200 MW; (3) one or more proposed submersible armored submarine cables, including a 12-kilovolt transmission line approximately 5 miles in length; (4) a potential sub-station and 1-mile-long transmission line, if the proposed project is expanded; and (5) appurtenant facilities. The project is estimated to have an annual generation of 20 gigawatt-hours, which would be sold to a local utility or used by the Sonoma County Water Agency to offset its own load.

Applicant Contact: Sonoma County Water Agency, Mr. Randy D. Poole, General Manager/Chief Engineer, 404 Aviation Boulevard, Santa Rosa, California 95403, phone: (707) 547-1900.

FERC Contact: Aaron Liberty (202) 502-6862.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings, please go to the Commission's Web site located at http://www.ferc.gov/filing-comments.asp. More information about this project can be viewed or printed on the “eLibrary” link of Commission's Web site at http://www.ferc.gov/docs-filing/elibrary.asp. Enter the docket number (P-13378) in the docket number field to access the document. For assistance, call toll-free 1-866-208-3372.

Kimberly D. Bose,
Secretary.

[FR Doc. E9-8161 Filed 4-9-09; 8:45 am]

BILLING CODE